ENVIRONMENTAL PROTECTION AGENCY

40 CFR Ch. 1

[FRL 11539-01-OA; EPA-HQ-OAR-2011-0135]

Fall 2023 Unified Agenda of Regulatory and Deregulatory Actions

AGENCY: Environmental Protection Agency.

ACTION: Semiannual Regulatory Agenda.

SUMMARY: The Environmental Protection Agency (EPA) publishes the Semiannual Agenda of Regulatory and Deregulatory Actions online at https://www.reginfo.gov to periodically update the public. This document contains information about:

• Regulations in the Semiannual Agenda that are under development, completed, or canceled since the last agenda; and

• Reviews of regulations with small business impacts under Section 610 of the Regulatory Flexibility Act.

FOR FURTHER INFORMATION CONTACT: If you have questions or comments about a particular action, please get in touch with the agency contact listed in each agenda entry. If you have general questions about the Semiannual Agenda, please contact: Caryn Muellerleile (muellerleile.caryn@epa.gov; 202-564-2855).

Table of Contents

I. Introduction

A. EPA's Regulatory Information

B. What key statutes and Executive Orders guide EPA's rule and policymaking process?

C. How can you be involved in EPA's rule and policymaking process?

II. Semiannual Agenda of Regulatory and Deregulatory Actions

A. What actions are included in the e-Agenda and the Regulatory Flexibility Agenda?

B. How is the e-Agenda organized?

C. What information is in the Regulatory Flexibility Agenda and the e-Agenda?

D. What tools are available for Mining Regulatory Agenda Data and for finding more about EPA rules and policies?

III. Review of Regulations Under Section 610 of the Regulatory Flexibility Act

A. Reviews of Rules With Significant Impacts on a Substantial Number of Small Entities

B. What other special attention does EPA give to the impacts of rules on small businesses, small governments, and small nonprofit organizations?

IV. Thank You for Collaborating With Us

SUPPLEMENTARY INFORMATION:

I. Introduction

EPA is committed to a regulatory strategy that effectively achieves the Agency's mission of protecting human health and the environment. EPA publishes the Semiannual Agenda of Regulatory and Deregulatory Actions to update the public about regulatory activity undertaken in support of this mission. In the Semiannual Agenda, EPA provides notice of our plans to review, propose, and issue regulations. EPA is committed to environmental protection that benefits all communities and encourages public participation and meaningful engagement in our regulatory activities and processes.

Additionally, EPA's Semiannual Agenda includes information about rules that may have a significant economic impact on a substantial number of small entities, and review of those regulations under the Regulatory Flexibility Act as amended.

In this document, EPA explains in greater detail the types of actions and information available in the Semiannual Agenda and actions that are currently undergoing review specifically for impacts on small entities.

A. EPA's Regulatory Information

“E-Agenda,” “online regulatory agenda,” and “semiannual regulatory agenda” all refer to the same comprehensive collection of information that, until 2007, was published in the Federal Register. Currently, this information is only available through an online database at https://www.reginfo.gov/.

“Regulatory Flexibility Agenda” refers to a document that contains information about the subset of regulations that may have a significant impact on a substantial number of small entities. We continue to publish this document in the Federal Register pursuant to the Regulatory Flexibility Act of 1980. This document is available at https://www.govinfo.gov/app/collection/fr.

“Unified Regulatory Agenda” refers to the collection of all agencies' agendas with an introduction prepared by the Regulatory Information Service Center facilitated by the U.S. General Services Administration.

“Regulatory Agenda Preamble” refers to the document you are reading now. It appears as part of the Regulatory Flexibility Agenda and introduces both EPA's Regulatory Flexibility Agenda and the e-Agenda.

“Section 610 Review” as required by the Regulatory Flexibility Act means a periodic review within ten years of promulgating a final rule that has or may have a significant economic impact on a substantial number of small entities. EPA maintains a list of these actions at https://www.epa.gov/reg-flex/section-610-reviews. EPA has one section 610 review ongoing with this semiannual agenda in fall 2023 for the 2014 rulemaking, “Control of Air Pollution from Motor Vehicles: Tier 3 Motor Vehicle Emission and Fuel Standards.”

B. What key statutes and Executive Orders guide EPA's rule and policymaking process?

Several environmental laws authorize EPA's actions, including but not limited to:

• American Innovation and Manufacturing Act (AIM)

• Clean Air Act (CAA),

• Clean Water Act (CWA),

• Comprehensive Environmental Response, Compensation, and Liability Act (CERCLA, or Superfund),

• Emergency Planning and Community Right-to-Know Act (EPCRA),

• Federal Insecticide, Fungicide, and Rodenticide Act (FIFRA),

• Resource Conservation and Recovery Act (RCRA),

• Safe Drinking Water Act (SDWA), and

• Toxic Substances Control Act (TSCA).

EPA must comply not only with environmental and other statutes, but also with applicable administrative legal requirements that apply to the issuance of regulations, such as the Administrative Procedure Act (APA), the Regulatory Flexibility Act (RFA) as amended by the Small Business Regulatory Enforcement Fairness Act (SBREFA), the Unfunded Mandates Reform Act (UMRA), the Paperwork Reduction Act (PRA), the National Technology Transfer and Advancement Act (NTTAA), and the Congressional Review Act (CRA).

EPA also meets a number of requirements contained in numerous Executive Orders: 12866, “Regulatory Planning and Review” (58 FR 51735, Oct. 4, 1993), as supplemented by Executive Order 13563, “Improving Regulation and Regulatory Review” (76 FR 3821, Jan. 21, 2011) and amended by Executive Order 14094, “Modernizing Regulatory Review” (88 FR 21879, April 11, 2023); 12898, “Environmental Justice” (59 FR 7629, Feb. 16, 1994) and 14096, “Revitalizing Our Nation's Commitment to Environmental Justice for All” (88 FR 25251, April 26, 2023); 13045, “Children's Health Protection” (62 FR 19885, Apr. 23, 1997); 13132, “Federalism” (64 FR 43255, Aug. 10, 1999); 13175, “Consultation and Coordination with Indian Tribal Governments” (65 FR 67249, Nov. 9, 2000); and 13211, “Actions Concerning Regulations That Significantly Affect Energy Supply, Distribution, or Use” (66 FR 28355, May 22, 2001).

C. How can you be involved in EPA's rule and policymaking process?

You can make your voice heard by getting in touch with the contact person provided in each agenda entry. EPA encourages you to participate as early in the process as possible. You may also participate by commenting on proposed rules published in the Federal Register (FR).

Instructions on how to submit your comments through https://www.regulations.gov are provided in each Notice of Proposed Rulemaking (NPRM). To be most effective, comments should contain information and data that support your position, and you also should explain why EPA should incorporate your suggestion in the rule or other type of action. You can be particularly helpful and persuasive if you provide examples to illustrate your concerns and offer specific alternative(s) to what has been proposed by EPA.

EPA believes its actions will be more cost effective and protective if the development process includes stakeholders working with us to help identify the most practical and effective solutions to environmental problems. EPA encourages you to become involved in its rule- and policymaking processes. For more information about EPA's efforts to increase transparency, participation, and collaboration in EPA activities, please visit https://www.epa.gov/laws-regulations/get-involved-epa-regulations.

II. Semiannual Agenda of Regulatory and Deregulatory Actions

A. What actions are included in the e-Agenda and the Regulatory Flexibility Agenda?

EPA includes regulations in the e-Agenda. However, there is no legal significance to the omission of an item from the agenda, and EPA generally does not include the following categories of actions:

• Administrative actions such as delegations of authority, changes of address, or phone numbers.

• Under the CAA: Revisions to state implementation plans; equivalent methods for ambient air quality monitoring; deletions from the new source performance standards source categories list; delegations of authority to states; area designations for air quality planning purposes.

• Under FIFRA: Registration-related decisions, actions affecting the status of currently registered pesticides, and data call-ins.

• Under the Federal Food, Drug, and Cosmetic Act: Actions regarding pesticide tolerances and food additive regulations.

• Under TSCA: Licensing actions and new chemical actions.

• Under RCRA: Authorization of State solid waste management plans and hazardous waste delisting petitions.

• Under the CWA: State Water Quality Standards, deletions from the section 307(a) list of toxic pollutants, suspensions of toxic testing requirements under the National Pollutant Discharge Elimination System (NPDES), and delegations of NPDES authority to States.

• Under SDWA: Actions on State underground injection control programs.

Meanwhile, the Regulatory Flexibility Agenda includes:

• Actions likely to have a significant economic impact on a substantial number of small entities.

• Rules the Agency has identified for periodic review under section 610 of the RFA.

EPA has one action with an ongoing review under section 610 of the RFA in this Agenda for the 2014 rulemaking “Control of Air Pollution from Motor Vehicles: Tier 3 Motor Vehicle Emission and Fuel Standards.”

B. How is the e-Agenda organized?

You can choose how to sort the agenda entries on-line by specifying the characteristics of the entries of interest in the desired individual data fields of the e-Agenda at https://www.reginfo.gov. You can sort based on the following characteristics: EPA subagency (such as Office of Water), stage of rulemaking as described in the following paragraphs, alphabetically by title, or the Regulation Identifier Number (RIN), which is assigned sequentially when an action is added to the agenda.

Each entry in the Agenda is associated with one of five rulemaking stages. The rulemaking stages are:

1. Pre-rule Stage—EPA's pre-rule actions are generally intended to determine whether the agency should initiate rulemaking. Pre-rulemakings may include anything that influences or leads to rulemaking; this would include Advance Notices of Proposed Rulemaking (ANPRMs) or analyses of the possible need for regulatory action.

2. Proposed Rule Stage—Proposed rulemaking actions include EPA's Notice of Proposed Rulemakings (NPRMs); these proposals are scheduled to publish in the Federal Register within the next year.

3. Final Rule Stage—Final rulemaking actions are those actions that EPA is scheduled to finalize and publish in the Federal Register within the next year.

4. Long-Term Actions—This section includes rulemakings for which the next scheduled regulatory action (such as publication of a NPRM or final rule) is twelve or more months into the future. We encourage you to explore becoming involved even if an action is listed in the Long-Term category.

5. Completed Actions—EPA's completed actions are those that have been promulgated and published in the Federal Register since publication of the spring 2023 Agenda. This category also includes actions that EPA is no longer considering and has elected to “withdraw” and the results of any RFA section 610 reviews.

C. What information is in the Regulatory Flexibility Agenda and the e-Agenda?

The Regulatory Flexibility Agenda entries include only the nine categories of information that are required by the Regulatory Flexibility Act of 1980 and by Federal Register Agenda printing requirements: Sequence Number, RIN, Title, Description, Statutory Authority, Section 610 Review, if applicable, Regulatory Flexibility Analysis Required, Schedule and Contact Person. Note that the electronic version of the Agenda (E-Agenda) replicates each of these actions with more extensive information, described below.

E-Agenda entries include:

Title: A brief description of the subject of the regulation. The notation “Section 610 Review” follows the title if we are reviewing the rule as part of our periodic review of existing rules under section 610 of the RFA (5 U.S.C. 610).

Priority: Each entry is placed into one of the following five categories:

a. Significant under 3(f)(1): Under Executive Order 12866, as amended, a rulemaking that may have an annual effect on the economy of $200 million or more, or adversely affect in a material way the economy, a sector of the economy, productivity, competition, jobs, the environment, public health or safety, or State, local, territorial, or tribal governments or communities.

b. Other Significant: A rulemaking that is not economically significant but is considered significant for other reasons. This category includes rules that may:

1. Create a serious inconsistency or otherwise interfere with an action taken or planned by another agency.

2. Materially alter the budgetary impact of entitlements, grants, user fees, or loan programs, or the rights and obligations of recipients; or

3. Raise legal or policy issues for which centralized review would meaningfully further the President's priorities, or the principles in Executive Order 12866.

c. Substantive, Nonsignificant: A rulemaking that has substantive impacts but is not Significant, Routine and Frequent, or Informational/Administrative/Other.

d. Routine and Frequent: A rulemaking that is a specific case of a recurring application of a regulatory program in the Code of Federal Regulations. If an action that would normally be classified Routine and Frequent is reviewed by the Office of Management and Budget (OMB) under Executive Order 12866, then we would classify the action as either “Significant under 3(f)(1)” or “Other Significant.”

e. Informational/Administrative/Other: An action that is primarily informational or pertains to an action outside the scope of Executive Order 12866.

Major: A rule is “major” under 5 U.S.C. 801 (Pub. L. 104-121) if it has resulted or is likely to result in an annual effect on the economy of $100 million or more or meets other criteria specified in the Congressional Review Act.

Unfunded Mandates: Whether the rule is covered by section 202 of the Unfunded Mandates Reform Act of 1995 (Pub. L. 104-4). The Act requires that, before issuing an NPRM likely to result in a mandate that may result in expenditures by State, local, and tribal governments, in the aggregate, or by the private sector of more than $100 million in 1 year, the agency prepare a written statement on federal mandates addressing costs, benefits, and intergovernmental consultation.

Legal Authority: The sections of the United States Code (U.S.C.), Public Law (Pub. L.), Executive Order (E.O.), or common name of the law that authorizes the regulatory action.

CFR Citation: The section(s) of the Code of Federal Regulations that would be affected by the action.

Legal Deadline: An indication of whether the rule is subject to a statutory and/or a judicial deadline, the date of that deadline, and whether the deadline pertains to a NPRM, a Final Action, or some other action.

Abstract: A brief description of the problem the action will address.

Timetable: The dates and citations (if available) for all past steps and a projected date for at least the next step for the regulatory action. A date displayed in the form 09/00/2024 means the agency is predicting the month and year the action will take place but not the day it will occur. For some entries, the timetable indicates that the date of the next action is “to be determined.”

Regulatory Flexibility Analysis Required: Indicates whether EPA has prepared or anticipates preparing a regulatory flexibility analysis under section 603 or 604 of the RFA. Generally, such an analysis is required for proposed or final rules subject to the RFA that EPA believes may have a significant economic impact on a substantial number of small entities.

Small Entities Affected: Indicates whether the rule is anticipated to have any effect on small businesses, small governments, or small nonprofit organizations.

Government Levels Affected: Indicates whether the rule may have any effect on levels of government and, if so, whether the affected governments are federal, tribal, state, or local.

Federalism Implications: Indicates whether the action is expected to have substantial direct effects on the States, on the relationship between the National Government and the States, or on the distribution of power and responsibilities among the various levels of government.

Energy Impacts: Indicates whether the action is a significant energy action under Executive Order 13211.

Sectors Affected: Indicates the main economic sectors regulated by the action. The regulated parties are identified by their North American Industry Classification System (NAICS) codes. These codes were created by the Census Bureau for collecting, analyzing, and publishing statistical data on the U.S. economy. There are more than 1,000 NAICS codes for sectors in agriculture, mining, manufacturing, services, and public administration.

International Trade Impacts: Indicates whether the action is likely to have international trade or investment effects, or otherwise be of international interest.

Agency Contact: The name, address, phone number, and email address of a person who is knowledgeable about the regulation.

Additional Information: Other information about the action including docket information.

URLs: For some actions, the internet addresses are included for reading copies of rulemaking documents, submitting comments on proposals, and getting more information about the rulemaking and the program of which it is a part.

RIN: The Regulation Identifier Number is used by OMB and the public to identify and track rulemakings. The first four digits of the RIN correspond to the EPA office with lead responsibility for developing the action.

D. What tools are available for Mining Regulatory Agenda Data and for finding more about EPA rules and policies?

1. Federal Regulatory Dashboard

The https://www.reginfo.gov searchable database maintained by the Regulatory Information Service Center and OMB's Office of Information and Regulatory Affairs (OIRA), allows users to view the Regulatory Agenda database (https://www.reginfo.gov/public/do/eAgendaMain), with options for searching, displaying, and transmitting data.

2. Subject Matter EPA Websites

Some actions listed in the Agenda include a URL for an EPA-maintained website that provides additional information about the action.

3. Public Dockets

When EPA publishes either an Advance Notice of Proposed Rulemaking (ANPRM) or a Notice of Proposed Rulemaking (NPRM) in the Federal Register, the Agency typically establishes a docket to accumulate materials developed throughout the development process for that rulemaking. The docket serves as the repository for the collection of documents or information related to that Agency's action or activity, and is accessible both electronically or at EPA's Docket Center Reading Room (https://www.epa.gov/dockets). EPA uses dockets primarily for rulemaking actions, but dockets may also be used for section 610 reviews and for various non-rulemaking activities, such as Federal Register documents seeking public comments on draft guidance, policy statements, information collection requests under the PRA, and other non-rule activities. Docket information should be in that action's agenda entry. All of EPA's public dockets can be located at https://www.regulations.gov. EPA particularly welcomes feedback on rulemakings from communities likely to be affected by these actions.

III. Review of Regulations Under Section 610 of the Regulatory Flexibility Act

A. Reviews of Rules With Significant Impacts on a Substantial Number of Small Entities

Section 610 of the RFA requires that an agency review each rule that has or will have a significant economic impact on a substantial number of small entities within 10 years of promulgation. Currently, EPA has one ongoing section 610 review.

Review title | RIN | Docket ID # | Status
Section 610 Review of the Tier 3 Motor Vehicle Emission and Fuel Standards | 2060-AV90 | EPA-HQ-OAR-2011-0135 | Ongoing.

B. What other special attention does EPA give to the impacts of rules on small businesses, small governments, and small nonprofit organizations?

For each of EPA's rulemakings, consideration is given to whether there will be any adverse impact on any small entity. EPA attempts to fit the regulatory requirements, to the extent feasible, to the scale of the businesses, organizations, and governmental jurisdictions subject to the regulation.

Under the RFA as amended by SBREFA, the Agency must prepare a formal analysis of the potential negative impacts on small entities, convene a Small Business Advocacy Review Panel (proposed rule stage), and prepare a Small Entity Compliance Guide (final rule stage) unless the Agency certifies a rule will not have a significant economic impact on a substantial number of small entities. For more detailed and current information about the Agency's policy and practice with respect to implementing the RFA/SBREFA, including ongoing Small Business Advocacy Review Panels, please visit EPA's RFA/SBREFA website at https://www.epa.gov/reg-flex.

IV. Thank You for Collaborating With Us

We would like to thank those of you who choose to join with us in making progress on the complex issues involved in protecting human health and the environment through engaging in our rulemaking process. Collaborative efforts such as EPA's open rulemaking processes are valuable tools for implementing our legal requirements in order to address environmental and public health challenges. Our regulatory agenda and your engagement play an important role in that process.

Victoria Arroyo,
Associate Administrator, Office of Policy.

10—Clean Air Act—Final Rule Stage
Sequence No. | Title | Regulation Identifier No.
432 | National Emission Standards for Hazardous Air Pollutants: Ethylene Oxide Commercial Sterilization and Fumigation Operations (Reg Plan Seq No. 203) | 2060-AU37
433 | New Source Performance Standards and Emission Guidelines for Crude Oil and Natural Gas Facilities: Climate Review (Reg Plan Seq No. 204) | 2060-AV16
434 | Revisions to the Air Emission Reporting Requirements (AERR) (Reg Plan Seq No. 205) | 2060-AV41
References in boldface appear in The Regulatory Plan in part II of this issue of the Federal Register.

10—Clean Air Act—Long-Term Actions
Sequence No. | Title | Regulation Identifier No.
435 | Section 610 Review of the Tier 3 Motor Vehicle Emission and Fuel Standards (Section 610 Review) | 2060-AV90

35—TSCA—Proposed Rule Stage
Sequence No. | Title | Regulation Identifier No.
436 | 1-Bromopropane (1-BP); Regulation Under the Toxic Substances Control Act (TSCA) (Reg Plan Seq No. 195) | 2070-AK73
437 | Trichloroethylene; Regulation Under the Toxic Substances Control Act (TSCA) (Reg Plan Seq No. 196) | 2070-AK83
438 | N-Methylpyrrolidone (NMP); Regulation Under the Toxic Substances Control Act (TSCA) (Reg Plan Seq No. 197) | 2070-AK85
439 | C.I. Pigment Violet 29; Regulation Under the Toxic Substances Control Act (TSCA) | 2070-AK87
References in boldface appear in The Regulatory Plan in part II of this issue of the Federal Register.

35—TSCA—Final Rule Stage
Sequence No. | Title | Regulation Identifier No.
440 | Methylene Chloride (MC); Regulation Under the Toxic Substances Control Act (TSCA) (Reg Plan Seq No. 211) | 2070-AK70
441 | Perchloroethylene (PCE); Regulation Under the Toxic Substances Control Act (TSCA) (Reg Plan Seq No. 213) | 2070-AK84
References in boldface appear in The Regulatory Plan in part II of this issue of the Federal Register.

35—TSCA—Completed Actions
Sequence No. | Title | Regulation Identifier No.
442 | Toxic Substances Control Act Reporting and Recordkeeping Requirements for Perfluoroalkyl and Polyfluoroalkyl Substances | 2070-AK67

72—SDWA—Final Rule Stage
Sequence No. | Title | Regulation Identifier No.
443 | PFAS National Primary Drinking Water Regulation Rulemaking (Reg Plan Seq No. 222) | 2040-AG18
References in boldface appear in The Regulatory Plan in part II of this issue of the Federal Register.

ENVIRONMENTAL PROTECTION AGENCY (EPA)

10—Clean Air Act

Final Rule Stage

432. National Emission Standards for Hazardous Air Pollutants: Ethylene Oxide Commercial Sterilization and Fumigation Operations [2060-AU37]

Regulatory Plan: This entry is Seq. No. 203 in part II of this issue of the Federal Register.

RIN: 2060-AU37

433. New Source Performance Standards and Emission Guidelines for Crude Oil and Natural Gas Facilities: Climate Review [2060-AV16]

Regulatory Plan: This entry is Seq. No. 204 in part II of this issue of the Federal Register.

RIN: 2060-AV16

434. Revisions to the Air Emission Reporting Requirements (AERR) [2060-AV41]

Regulatory Plan: This entry is Seq. No. 205 in part II of this issue of the Federal Register.

RIN: 2060-AV41

ENVIRONMENTAL PROTECTION AGENCY (EPA)

10—Clean Air Act

Long-Term Actions

435. Section 610 Review of the Tier 3 Motor Vehicle Emission and Fuel Standards (Section 610 Review) [2060-AV90]

Legal Authority: 5 U.S.C. 610

Abstract: The rulemaking “Control of Air Pollution From Motor Vehicles: Tier 3 Motor Vehicle Emission and Fuel Standards” was finalized by EPA in April 2014 (79 FR 23414). The final rule established the Tier 3 Motor Vehicle Emission and Fuel Standards program. The Tier 3 program was part of a comprehensive approach to reducing the impacts of motor vehicles on air quality and public health. The program considered the vehicle and its fuel as an integrated system, setting new vehicle emissions standards and a new gasoline sulfur standard beginning in 2017. The vehicle emissions standards were expected to reduce both tailpipe and evaporative emissions from passenger cars, light-duty trucks, medium-duty passenger vehicles, and some heavy-duty vehicles. The gasoline sulfur standard was expected to enable more stringent vehicle emissions standards and will make emissions control systems more effective. This entry in the regulatory agenda describes EPA's review of this action pursuant to section 610 of the Regulatory Flexibility Act (5 U.S.C. 610) to determine if the provisions that could affect small entities should be continued without change or should be rescinded or amended to minimize adverse economic impacts on small entities. As part of this review, EPA is considering comments on the following factors: (1) The continued need for the rule; (2) the nature of complaints or comments received concerning the rule; (3) the complexity of the rule; (4) the extent to which the rule overlaps, duplicates, or conflicts with other Federal, State, or local government rules; and (5) the degree to which the technology, economic conditions or other factors have changed in the area affected by the rule. The results of EPA's review will be summarized in a report and placed in the docket at the conclusion of this review. The review's Docket ID number is EPA-HQ-OAR-2011-0135.

Timetable:

Action | Date | FR Cite
Final Action | 04/28/14 | 79 FR 23414
Begin Review | 07/27/23 | 88 FR 48598
End Review | To Be Determined

Regulatory Flexibility Analysis Required: No.

Agency Contact: Jessica Mroz, Environmental Protection Agency, Office of Air and Radiation, 1200 Pennsylvania Avenue NW, Washington, DC 20460, Phone: 202 564-1094, Email: mroz.jessica@epa.gov.

RIN: 2060-AV90

ENVIRONMENTAL PROTECTION AGENCY (EPA)

35—TSCA

Proposed Rule Stage

436. 1-Bromopropane (1-BP); Regulation Under the Toxic Substances Control Act (TSCA) [2070-AK73]

Regulatory Plan: This entry is Seq. No. 195 in part II of this issue of the Federal Register.

RIN: 2070-AK73

437. Trichloroethylene; Regulation Under the Toxic Substances Control Act (TSCA) [2070-AK83]

Regulatory Plan: This entry is Seq. No. 196 in part II of this issue of the Federal Register.

RIN: 2070-AK83

438. N-Methylpyrrolidone (NMP); Regulation Under the Toxic Substances Control Act (TSCA) [2070-AK85]

Regulatory Plan: This entry is Seq. No. 197 in part II of this issue of the Federal Register.

RIN: 2070-AK85

439. C.I. Pigment Violet 29; Regulation Under the Toxic Substances Control Act (TSCA) [2070-AK87]

Legal Authority: 15 U.S.C. 2605 Toxic Substances Control Act

Abstract: This proposed rulemaking will address unreasonable risks of injury to health identified in the final risk evaluation for C.I. Pigment Violet 29. Section 6 of the Toxic Substances Control Act (TSCA) requires EPA to address unreasonable risks of injury to health or the environment that the Administrator has determined are presented by a chemical substance under the conditions of use. EPA's risk evaluation for C.I. Pigment Violet 29, describing the conditions of use and presenting EPA's determination of unreasonable risk, is in docket EPA-HQ-OPPT-2018-0604, with revised risk determination and additional information in docket EPA-HQ-OPPT-2016-0725.

Timetable:

Action | Date | FR Cite
NPRM | 08/00/24

Regulatory Flexibility Analysis Required: Yes.

Agency Contact: Carolyn Mottley, Environmental Protection Agency, Office of Chemical Safety and Pollution Prevention, 1200 Pennsylvania Avenue, Mail Code 7404M, Washington, DC 20460, Phone: 202 566-1955, Email: mottley.carolyn@epa.gov.

Ana Corado, Environmental Protection Agency, Office of Chemical Safety and Pollution Prevention, 1200 Pennsylvania Avenue NW, Mail Code 7404M, Washington, DC 20460, Phone: 202 564-0140, Email: corado.ana@epa.gov.

RIN: 2070-AK87

ENVIRONMENTAL PROTECTION AGENCY (EPA)

35—TSCA

Final Rule Stage

440. Methylene Chloride (MC); Regulation Under the Toxic Substances Control Act (TSCA) [2070-AK70]

Regulatory Plan: This entry is Seq. No. 211 in part II of this issue of the Federal Register.

RIN: 2070-AK70

441. Perchloroethylene (PCE); Regulation Under the Toxic Substances Control Act (TSCA) [2070-AK84]

Regulatory Plan: This entry is Seq. No. 213 in part II of this issue of the Federal Register.

RIN: 2070-AK84

ENVIRONMENTAL PROTECTION AGENCY (EPA)

35—TSCA

Completed Actions

442. Toxic Substances Control Act Reporting and Recordkeeping Requirements for Perfluoroalkyl and Polyfluoroalkyl Substances [2070-AK67]

Legal Authority: 15 U.S.C. 2607(a)(7) Toxic Substances Control Act

Abstract: EPA published a proposed rule on June 28, 2021, addressing reporting and recordkeeping requirements for Per- and Polyfluoroalkyl Substances (PFAS) under section 8(a)(7) of the Toxic Substances Control Act (TSCA). In accordance with obligations under TSCA section 8(a), as amended by section 7351 of the National Defense Authorization Act for Fiscal Year 2020, persons that manufacture (including import) or have manufactured these chemical substances in any year since January 1, 2011, would be subject to the reporting and recordkeeping requirements. In addition to fulfilling statutory obligations under TSCA, EPA expects that the final rule will enable EPA to better characterize the sources and quantities of manufactured PFAS in the United States. EPA solicited additional public comments on an Initial Regulatory Flexibility Analysis (IRFA) following the completion of a Small Business Advocacy Review (SBAR) Panel addressing the proposed PFAS reporting and recordkeeping requirements.

Timetable:

Action | Date | FR Cite
NPRM | 06/28/21 | 86 FR 33926
Notice | 11/25/22 | 87 FR 72439
Final Rule | 10/11/23 | 88 FR 70516
Final Rule Effective | 11/13/23

Regulatory Flexibility Analysis Required: Yes.

Agency Contact: Stephanie Griffin, Environmental Protection Agency, Office of Chemical Safety and Pollution Prevention, 1200 Pennsylvania Avenue NW, Mail Code 7406M, Washington, DC 20460, Phone: 202 564-1463, Email: griffin.stephanie@epa.gov.

David Turk, Environmental Protection Agency, Office of Chemical Safety and Pollution Prevention, 1200 Pennsylvania Avenue NW, Mail Code 7406M, Washington, DC 20460, Phone: 202 566-1527, Email: turk.david@epa.gov.

RIN: 2070-AK67

ENVIRONMENTAL PROTECTION AGENCY (EPA)

72—SDWA

Final Rule Stage

443. PFAS National Primary Drinking Water Regulation Rulemaking [2040-AG18]

Regulatory Plan: This entry is Seq. No. 222 in part II of this issue of the Federal Register.

RIN: 2040-AG18

[FR Doc. 2024-00458 Filed 2-8-24; 8:45 am]

BILLING CODE 6560-50-P